DEPARTMENT OF COMMERCE

National Oceanic and Atmospheric Administration

Proposed Information Collection; Comment Request; American Lobster—Annual Trap Transfer Program

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995. This action proposes to revise and extend information collection for the American lobster fishery Trap Transfer Program.

DATES: Written comments must be submitted on or before December 27, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Peter Burns, Fishery Policy Analyst, NMFS, Greater Atlantic Regional Fisheries Office, 55 Great Republic Drive, Gloucester, MA 01930; (978) 281-9144, Peter.burns@noaa.gov.

SUPPLEMENTARY INFORMATION:

I. Abstract

This is a request for revision and extension of a currently approved information collection.

The American lobster resource and fishery are cooperatively managed by the states and NMFS under the authority of the Atlantic Coastal Fisheries Cooperative Management Act, according to the framework set forth by the Atlantic States Marine Fisheries Commission (ASMFC) in Amendment 3 of its Interstate Fishery Management Plan (ISFMP). This collection of information is in response to several addenda to Amendment 3 of the ISFMP that work to reduce trap fishing effort through limited entry fishing and trap allocation limit reductions. This program is intended to help control fishing efforts while increasing economic flexibility in the American lobster trap fishery.

Currently, Federal lobster permit holders qualified to fish with trap gear in Lobster Conservation Management Areas 2 and 3 are undergoing scheduled annual trap allocation reductions of 5 percent per year until 2021 (Area 2) and 2020 (Area 3). In 2015, in an effort to help mitigate the initial economic burden of these reductions, NMFS and state agencies implemented the Lobster Trap Transfer Program that allows all qualified Federal lobster permit holders to buy and sell trap allocation from Areas 2, 3, or Outer Cape Cod. Each transaction includes a conservation tax of 10 percent, which deducts a number of traps equal to 10 percent of the total number of traps with each transfer, permanently removing them from the fishery.

NMFS collects annual application forms from Lobster permit holders who wish to buy and/or sell Area 2, 3, or Outer Cape trap allocation through the Trap Transfer Program. The transfer applications are only accepted during a 2-month period (from August 1 through September 30) each year, and the revised allocations for each participating lobster permit resulting from the transfers become effective at the start of the following Federal lobster fishing year, on May 1. Both the seller and buyer of the traps are required to sign the application form, which includes each permit holder's permit and vessel information, the number of traps sold, and the revised number of traps received by the buyer, inclusive of the amount removed according to the transfer tax. Both parties must sign the form as an agreement to the number of traps in the transfer. The parties must date the document and clearly show that the transferring permit holder has sufficient allocation to transfer and the permit holder receiving the traps has sufficient room under any applicable trap cap. This information allows NMFS to process and track transfers of lobster trap allocations through the Trap Transfer Program, and better enables the monitoring and management of the American lobster fishery as a whole.

Originally, this collection was part of a new rulemaking action, and included efforts to obtain information from American lobster permit holders to implement a limited access permit program. NMFS used the information to qualify permit holders for participation in Area 2 and/or the Outer Cape Area, and to allocate traps to each qualified permit. This limited access portion of the collection is complete and no longer necessary, so a revision is requested to remove it from the collection. Also, now that the Trap Transfer Program has been in place for two years, NMFS can better estimate the number of applicants/respondents and have made a minor revision to the burden. The initial estimate of 432 respondents with 216 two-party transaction responses was nearly double what was actually received through the Trap Transfer Program in the first two years; with fewer permit holders participating in the program overall, and/or completing multiple transactions between their own permits. Adjusted estimates of respondents, total burden hours, and costs are noted below in Section III.

II. Method of Collection

Applications for the Trap Transfer Program are accepted annually from August 1 through September 30 by mail, fax, or email.

III. Data

OMB Control Number: 0648-0673.

Form Number(s): None.

Type of Review: Regular submission (revision and extension of a current information collection).

Affected Public: Businesses or other for-profit organizations; Individuals or households; Federal government; and State, Local, or Tribal government.

Estimated Number of Respondents: 102.

Estimated Time per Response: 10 minutes.

Estimated Total Annual Burden Hours: 17.

Estimated Total Annual Cost to Public: $573.24 in reporting/recordkeeping costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 21, 2016.
Sarah Brabson,
NOAA PRA Clearance Officer.

[FR Doc. 2016-25844 Filed 10-25-16; 8:45 am]

BILLING CODE 3510-22-P